DEPARTMENT OF TRANSPORTATION

Office of the Secretary

Notice of Applications for Certificates of Public Convenience and Necessity and Foreign Air Carrier Permits Filed Under Subpart B (Formerly Subpart Q) Filed With the Department Between November 24 and December 5, 2003

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Applications Filed During Week Ending November 28, 2003

Docket Number: OST-2003-14073.

Date Filed: November 26, 2003.

Due Date for Answers, Conforming Applications, or Motion to Modify Scope: December 17, 2003.

Description: Application of Kuwait Airways Corporation, pursuant to 49 U.S.C. Section 41302, part 211 and subpart B, requesting that its foreign air carrier permit be amended to include authority to provide additional nonstop operations between Kuwait and New York, NY and to add the intermediate point of Athens, Greece in addition to the current intermediate point of Amsterdam, The Netherlands in the conduct of service between Chicago, IL and Kuwait.

Applications Filed During Week Ending December 5, 2003

Docket Number: OST-2003-16626.

Date Filed: December 3, 2003.

Due Date for Answers, Conforming Applications, or Motion to Modify Scope: December 24, 2003.

Description: Emergency Application of Midway Airlines Corporation and Ascent Airlines, Inc., pursuant to 49 U.S.C. section 41105 and Subpart B, seeking approval of the transfer of Midway's operating authority to Ascent.

Andrea M. Jenkins,
Program Manager Docket Operations, Federal Register Liaison.

[FR Doc. 03-31415 Filed 12-19-03; 8:45 am]

BILLING CODE 4910-62-P